DEPARTMENT OF DEFENSE

Office of the Secretary

[Docket ID: DOD-2020-OS-0109]

Proposed Collection; Comment Request

AGENCY: The Office of the Under Secretary of Defense Comptroller, Department of Defense (DoD).

ACTION: Information collection notice.

SUMMARY: In compliance with the Paperwork Reduction Act of 1995, the Defense Finance and Accounting Service announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by April 1, 2021.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Kellen Stout, 8899 E 56th St, Indianapolis, IN 46249 or call (317) 212-1801.

SUPPLEMENTARY INFORMATION:

Title; Associated Form; and OMB Number: Defense and Retired Annuitant System; DD Forms 2866, 2868, 2892, 2894; DFAS Form 9415; DFAS-CL Forms 1800/97, 1800/100, 1059; OMB Control Number 0730-XXXX.

Needs and Uses: Information is collected to maintain pay and personnel information for use in the computation of military retired pay, survivor annuity pay, and to make payments to spouses, and former spouses and beneficiaries of unpaid retired pay.

Affected Public: Individuals and households.

Annual Burden Hours: 7,233.1.

Number of Respondents: 40,371.

Responses per Respondent: 1.

Annual Responses: 40,371.

Average Burden per Response: 10.75 minutes.

Frequency: On occasion.

Dated: December 30, 2020.
Kayyonne T. Marston,
Alternate OSD Federal Register Liaison Officer, Department of Defense.

[FR Doc. 2020-29208 Filed 1-5-21; 8:45 am]

BILLING CODE 5001-06-P